DEPARTMENT OF THE INTERIOR

Bureau of Indian Affairs

[212A2100DD/AAKC001030/A0A51010.999900]

Land Acquisitions; The Picayune Rancheria of Chukchansi Indians of California

AGENCY: Bureau of Indian Affairs, Interior.

ACTION: Notice.

SUMMARY: The Assistant Secretary—Indian Affairs has made a final determination to acquire 217.88 acres, more or less, into trust for The Picayune Rancheria of Chukchansi Indians of California.

DATES: This determination was made on December 7, 2020.

FOR FURTHER INFORMATION CONTACT: Ms. Sharlene M. Round Face, Bureau of Indian Affairs, Division of Real Estate Services, 1001 Indian School Road NW, Albuquerque NM 87104, telephone (505) 563-3132.

SUPPLEMENTARY INFORMATION: This notice is published in the exercise of authority delegated by the Secretary of the Interior to the Assistant Secretary—Indian Affairs by part 209 of the Departmental Manual, and is published to comply with the requirement of 25 CFR 151.12(c)(2)(ii) that notice of the decision to acquire land in trust be promptly published in the Federal Register.

On the date listed in the DATES section of this notice, the Assistant Secretary—Indian Affairs issued a decision to accept land in trust for the Picayune Rancheria of Chukchansi Indians of California under the authority of Section 5 of the Indian Reorganization Act of 1934 (48 Stat. 984).

Picayune Rancheria of Chukchansi Indians of California

Parcel 1

All that portion of the North half of the Northeast quarter of Section 24, Township 9 South, Range 20 East, Mount Diablo Base and Meridian, according to the Official Plat thereof, lying Westerly of the Westerly line of State Highway No. 41.

Excepting Therefrom that portion thereof described in Grant Deed to the State of California, recorded April 8, 1987 in Book 1963, Page 411 of Official Records.

Parcel 2

All that portion of the South half of the Northeast quarter and of the North half of the North half of the Southeast quarter of Section 24, Township 9 South, Range 20 East, Mount Diablo Base and Meridian, according to the Official Plat thereof, lying Westerly of the Westerly line of State Highway No. 41.

EXCEPTING THEREFROM that portion thereof described in Grant Deed to the State of California, recorded April 8, 1987 ln Book 1963, Page 411 of Official Records.

Parcel 3

All that portion of the South three-quarters of the Southeast quarter of Section 24. Township 9 South, Range 20 East. Mount Diablo Base and Meridian, according to the Official Plat thereof, lying Westerly of the Westerly line of State Highway No. 41.

Excepting Therefrom that portion thereof described in Grant Deed to the State of California, recorded April 8, 1987 in Book 1963. Page 411 of Official Records.

Parcel 4

The East 200.00 feet of the Southeast quarter of the Southwest quarter of Section 13 and the East 200 feet of the Northeast quarter of the Northwest quarter of Section 24, all in Township 9 South, Range 20 East, Mount Diablo Base and Meridian, in the unincorporated area, County of Madera, State of California, according to the Official Plat thereof.

Containing 217.88 acres, more or less.

Tara Sweeney,
Assistant Secretary—Indian Affairs.

[FR Doc. 2020-27224 Filed 12-10-20; 8:45 am]

BILLING CODE 4337-15-P